FEDERAL COMMUNICATIONS COMMISSION

Notice of Public Information Collection(s) Being Reviewed by the Federal Communications Commission, Comments Requested

July 21, 2009.

SUMMARY: The Federal Communications Commission, as part of its continuing effort to reduce paperwork burden invites the general public and other Federal agencies to take this opportunity to comment on the following information collection(s), as required by the Paperwork Reduction Act (PRA) of 1995, 44 U.S.C. 3501—3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before September 28, 2009. If you anticipate that you will be submitting PRA comments, but find it difficult to do so within the period of time allowed by this notice, you should advise the FCC contact listed below as soon as possible.

ADDRESSES: Direct all PRA comments to Nicholas A. Fraser, Office of Management and Budget, via fax at 202-395-5167 or via Internet at Nicholas_A._Fraser@omb.eop.gov and to Judith-B.Herman@fcc.gov, Federal Communications Commission, or an e-mail to PRA@fcc.gov.

FOR FURTHER INFORMATION CONTACT: For additional information, contact Judith B. Herman at 202-418-0214 or via the Internet at Judith-B.Herman@fcc.gov.

SUPPLEMENTARY INFORMATION:

OMB Control Number: 3060-0149.

Title: Part 63, Application and Supplemental Information Requirements.

Form No.: N/A.

Type of Review: Revision of a currently approved collection.

Respondents: Business or other for-profit.

Number of Respondents: 90 respondents; 90 responses.

Estimated Time per Response: 5 hours.

Frequency of Response: On occasion requirement, and third party disclosure requirement.

Obligation to Respond: Required to obtain or retain benefits. Statutory authority for this information collection is contained in 47 U.S.C. Sections 151, 154(i), 154(j), 160, 161, 201-205, 214, 218, 403 and 571.

Total Annual Burden: 450 hours.

Total Annual Cost: N/A.

Privacy Act Impact Assessment: N/A.

Needs and Uses: The Commission will submit this information collection to the Office of Management and Budget (OMB) after this 60 day comment period in order to obtain the full three year clearance from them. The Commission is requesting approval of a revision of this information collection. The Commission is reporting an increase of 45 respondents/responses and therefore, the total annual burden has increased by 225 total annual hours. In a Report and Order, FCC 09-40, IP-Enabled Services (“VoIP Discontinuance Order”), released on May 13, 2009, the Commission modified Part 63 to extend to providers of interconnected Voice over Internet Protocol (VoIP) service the discontinuance obligations that apply to domestic non-dominant telecommunications carriers under Section 214 of the Communications Act of 1934, as amended. Accordingly, the Commission found that before an interconnected VoIP provider may discontinue, reduce, or impair service, it must comply with the streamlined discontinuance requirements for non-dominant providers under Part 63 of the Commission's rules, including the requirements to provide written notice to all affected customers, notify relevant state authorities, and file an application with the Commission for authorization of the planned action. In general, providers of facilities-based interconnected VoIP services and “over-the-top” interconnected VoIP services are subject to the rules in the VoIP Discontinuance Order. However, the Commission found that it made more sense to treat providers of interconnected VoIP services that are mobile in the same way as Commercial Mobile Radio Service (CMRS) providers, which are not subject to the Commission's Section 214 discontinuance obligations.

OMB Control Number: 3060-None.

Title: Implementation of the NET 911 Improvement Act of 2008; Location Information From Owners and Controllers of 911 and E911 Capabilities.

Form No.: N/A.

Type of Review: New collection.

Respondents: Business or other for-profit.

Number of Respondents: 60 respondents; 60 responses.

Estimated Time per Response: .0833 hours (5 minutes).

Frequency of Response: On occasion requirement, and third party disclosure requirement.

Obligation to Respond: Required to obtain or retain benefits. Statutory authority for this information collection is contained in the New and Emering Technologies 911 Improvement Act of 2008 (NET 911 Act), Public Law 110-283, Stat. 2620 (2008) (to be codified at 47 U.S.C. Section 615a-1), and section 222 of the Communications Act of 1934, as amended.

Total Annual Burden: 5 hours.

Total Annual Cost: N/A.

Privacy Act Impact Assessment: N/A.

Needs and Uses: The Commission will submit this information collection to the Office of Management and Budget (OMB) after this 60 day comment period in order to obtain the full three year clearance from them. The Commission is requesting OMB approval of a new information collection. The Commission is reporting a program change increase of 60 respondents/responses and therefore, the total annual burden is estimated to be 5 total annual hours.

The FCC requires an owner or controller of a 911 or enhanced 911 capability to make that capability available to a requesting interconnected Voice Over Internet Protocol (VoIP) provider in certain circumstances. This requirement involves the collection and disclosure to emergency services personnel of customers' location information. In a previous action, the Commission required interconnected VoIP providers to collect certain location information from their customers and disclose it to the entities that own or control an Automatic Location Information (ALI) database. That OMB-approved requirement is under OMB Control Number 3060-1085. All the relevant costs of the entities that own or control an ALI database were previously described in 3060-1085. The Commission has calculated the paperwork burdens of this present item in such a way as to prevent double counting for OMB's inventory.

For more information regarding this new information collection, see 74 FR 31860 (July 6, 2009), available at http://frwebtgate5.access.gpo.gov/cgi-bin/PDFgate.cgi? WAISdocID=594374209894+10+2+0&WAISaction=retrieve.

Federal Communications Commission.
Marlene H. Dortch,
Secretary.

[FR Doc. E9-18007 Filed 7-28-09; 8:45 am]

BILLING CODE 6712-01-P